DEPARTMENT OF THE INTERIOR

Bureau of Land Management

[LLCAN06000.L58740000. EU0000.LXSS07B0000; CACA 49822, CACA 49823, and CACA 49824]

Notice of Realty Action: Competitive Sale of Public Lands in Tehama County, CA

AGENCY: Bureau of Land Management, Interior.

ACTION: Notice of Realty Action.

SUMMARY: The Bureau of Land Management (BLM) proposes to sell three parcels of public land totaling approximately 243.82 acres in Tehama County, California. The sale will be subject to the Federal Land Policy and Management Act of 1976 (FLPMA), and BLM land sale and mineral conveyance regulations. The sales will be conducted as a competitive bid auction in which interested bidders must submit written sealed bids equal to, or greater than, the appraised fair market value of the land. Bidders who submit written sealed bids will have the opportunity to increase their bids in a silent auction to be held after BLM opens all written sealed bids.

DATES: Comments regarding the proposed sales must be received by the BLM on or before August 9, 2010. Sealed bids must be received no later than 3 p.m., Pacific Standard Time, August 23, 2010. The BLM will open the sealed bids and allow supplemental bidding in a silent auction on August 23, 2010, which will be the sale date. Other deadline dates for payments are specified in the “SUPPLEMENTARY INFORMATION” section of this notice.

ADDRESSES: Written comments concerning the proposed sale should be sent to the Field Manager, BLM Redding Field Office, 355 Hemsted Drive, Redding, California 96002. Sealed bids must also be submitted to this address. Supplemental bidding in the silent auction will be conducted at this address. Additional information including bid forms, times, and bidding procedures will be available in an Invitation for Bids available from the BLM Redding Field Office.

FOR FURTHER INFORMATION CONTACT: Ilene Emry, Realty Specialist (530) 224-2122 or via e-mail at Ilene_Emry@ca.blm.gov.

SUPPLEMENTARY INFORMATION: The following public lands are proposed for competitive sale in accordance with Sections 203 and 209 of FLPMA (43 U.S.C. 1713 and 1719):

Mount Diablo Meridian

Parcel 1: T. 27 N., R. 2 W., sec. 4, S½SW¼, 80 acres.

Parcel 2: T. 27 N., R. 2 W., sec. 4, SE¼SE¼, 40 acres.

Parcel 3: T. 27 N., R. 2 W., sec. 8, lot 1, N½NE¼, 123.82 acres.

The public lands are identified as suitable for disposal in the BLM's 1993 Redding Resource Management Plan, as amended, because they are isolated and scattered, and difficult and uneconomic to manage as part of the public lands. In addition, they are not needed for any Federal purpose.

On December 15, 2008, the lands described above were segregated from appropriation under the public land laws, including the mining laws, except the sale provisions of FLPMA. Until completion of the sale, the BLM is no longer accepting land use applications affecting the identified public land, except applications for the amendment of previously-filed right-of-way applications or existing authorizations to increase the term of the grants in accordance with 43 CFR 2807.15 and 2886.15. The segregative effect will terminate on December 15, 2010, upon issuance of a patent, or publication in the Federal Register of a termination of the segregation, unless extended by the BLM State Director in accordance with 43 CFR 2711.1-2(d) prior to the termination date. Proceeds from the sale will be deposited into the Federal Land Disposal Account, pursuant to the Federal Land Transaction Facilitation Act of July 25, 2000.

The lands identified for sale are considered to have no known mineral value except for oil and gas, which will be reserved to the United States. With the exception of oil and gas, the proposed sale would include the conveyance of both the surface interests and remaining mineral interests of the United States. Any patent issued will contain the following numbered reservations, covenants, terms and conditions:

1. All parcels will be conveyed with a reservation of a right-of-way to the United States for ditches and canals constructed by authority of the United States under the Act of August 30, 1890 (43 U.S.C 945) and a reservation of all oil and gas to the United States together with the right to prospect for, mine, and remove such oil and gas resources under applicable law and any regulations as the Secretary of the Interior may prescribe, along with all necessary access and exit rights.

2. All parcels will be conveyed subject to valid existing rights. Parcels may be subject to applications for rights-of-way received prior to publication of this Notice if processing the application would not adversely affect the marketability or appraised value of a parcel. Encumbrances of record, appearing in the BLM public files for the parcels proposed for sale, are available for review at the BLM Redding Field Office.

3. No warranty of any kind, express or implied, is given by the United States as to the title, physical condition or potential uses of the lands proposed for sale; and the conveyance of any parcel will not be on a contingency basis. To the extent required by law, all such parcels are subject to the requirements of Section 120(h) of the Comprehensive Environmental Response Compensation and Liability Act, as amended (42 U.S.C 9620(h)).

4. All purchasers/patentees, by accepting a patent, covenant and agree to indemnify, defend and hold the United States harmless from any costs, damages, claims, causes of action, penalties, fines, liabilities, and judgments of any kind or nature arising from the past, present, and future acts or omissions of the patentees or their employees, agents, contractors, or lessees, or any third-party, arising out of or in connection with the patentees use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, state, and local laws and regulations that are now or may in the future become applicable to the real property; (2) Judgments, claims or demands of any kind assessed against the United States; (3) Costs, expenses, or damages of any kind incurred by the United States; (4) Releases or threatened releases of solid or hazardous waste(s) and/or hazardous substances(s), as defined by Federal or state environmental laws, off, on, into or under land, property and other interest of the United States; (5) Activities by which solids or hazardous substances or waste, as defined by Federal and state environmental laws are generated, released, stored, used or otherwise disposed of on the patented real property, and any cleanup response, remedial action or other actions related in any manner to said solid or hazardous substances or wastes; or (6) Natural resource damages as defined by Federal and state law. This covenant shall be construed as running with the parcel of land patented or otherwise conveyed by the United States, and may be enforced by the United States in a court of competent jurisdiction.

Interested bidders are advised to obtain an Invitation For Bids (IFB) from the BLM Redding Field Office at the address above or by calling (530) 224-2100. Interested bidders must follow the instructions in the IFB to participate in the bidding process. Interested bidders may submit sealed bids for one or more parcels, but a separate sealed bid must be submitted for each parcel. Sealed bids must be for not less than the federally approved fair market value. Each sealed bid must include a certified check, money order, bank draft, or cashier's check made payable in U.S. dollars to the order of the Bureau of Land Management, for 10 percent of the amount of the bid. Bidders who have properly submitted sealed bids will have the opportunity to submit supplemental written bids in a silent auction at the BLM Redding Field Office on August 23, 2010. Interested bidders wishing to submit a supplemental bid for a parcel must have properly submitted a sealed bid for the parcel and be present at the silent auction. The first supplemental bid for any parcel in the silent auction must be at least $2,000 more than the highest sealed bid accepted by the BLM and each subsequent supplemental bid must be at least $2,000 more than the previous bid. The BLM reserves the right to increase the required bid increment at any time. The highest supplemental bid submitted during the silent auction will be declared the high bid and the high bidder must immediately submit an additional payment to the BLM which, when added to the bid deposit submitted with the bidders sealed bid, equals at least 20 percent of the amount of the bid. If no supplemental bids are submitted for a parcel during the silent auction, the highest sealed bid for the parcel will be declared the high bid and the high bidder will receive written notice. If no supplemental bids are submitted for a parcel during the silent auction and more than one sealed bid is submitted for the same high bid amount, the high bidders will be notified and allowed to submit additional sealed bids. The highest qualifying bid for any parcel will be declared the high bid and the high bidder will receive written notice. The remainder of the full bid price for each parcel must be paid within 180 calendar days of the sale date in the form of a certified check, money order, bank draft, or cashier's check made payable in U.S. dollars to the Bureau of Land Management. Personal checks will not be accepted. Failure to pay the full price within the 180 days will disqualify the apparent high bidder and cause the entire bid deposit to be forfeited to the BLM. A bid to purchase the land will constitute an application for conveyance of the mineral interests of no known value, excluding oil and gas, and in conjunction with the final payment, the high bidder for the parcel will be required to pay a $50 non-refundable filing fee for processing the conveyance of the mineral interests.

The BLM will return checks submitted by unsuccessful bidders by U.S. mail or in person on the day of the sale.

The BLM may accept or reject any or all offers, or withdraw any parcel of land or interest therein from sale, if, in the opinion of the BLM authorized officer, consummation of the sale would not be fully consistent with FLPMA or other applicable law or is determined to not be in the public interest.

Under Federal law, the public lands may only be conveyed to U.S. citizens 18 years of age or older; a corporation subject to the laws of any State or of the United States; a State, State instrumentality, or political subdivision authorized to hold property, or an entity legally capable of conveying and holding lands under the laws of the State of California. Certification of qualifications, including citizenship or corporation or partnership, must accompany the sealed bid. The BLM reserves the right to require proof of the high bidder's qualifications to acquire public land.

Additional Information: If not sold, any parcel described in this Notice may be identified for sale later without further legal notice. Unsold parcels may be offered for sale by sealed bid, internet auction, or oral auction. In order to determine the value, through appraisal, of the parcels of land proposed to be sold, certain extraordinary assumptions may have been made of the attributes and limitations of the lands and potential effects of local regulations and policies on potential future land uses. Through publication of this Notice, the BLM gives notice that these assumptions may not be endorsed or approved by units of local government. It is the buyer's responsibility to be aware of all applicable local government policies, laws, and regulations that would affect the subject lands, including any required dedication of lands for public uses. It is also the buyer's responsibility to be aware of existing or projected uses of nearby properties. When conveyed out of Federal ownership, the lands will be subject to any applicable reviews and approvals by the respective unit of local government for proposed future uses, and any such reviews and approvals will be the responsibility of the buyer. Any land lacking access from a public road or highway will be conveyed as such, and future access acquisition will be the responsibility of the buyer.

Detailed information concerning the proposed land sales, including the appraisal, planning and environmental documents, and a mineral report, are available for review at the location identified in “ADDRESSES” section above.

Public comments regarding the proposed sales may be submitted in writing to the attention of the BLM Redding Field Manager (see “ADDRESSES” section above) on or before August 9, 2010. Comments received in electronic form, such as e-mail or facsimile, will not be considered. Any adverse comments regarding the proposed sale will be reviewed by the BLM State Director or other authorized official of the Department of the Interior, who may sustain, vacate, or modify this realty action in whole or in part. In the absence of timely filed objections, this realty action will become the final determination of the Department of the Interior. Before including your address, phone number, e-mail address, or other personal identifying information in your comment, you should be aware that your entire comment—including your personal identifying information—may be made publicly available at any time. While you can ask us in your comment to withhold your personal identifying information from public review, we cannot guarantee that we will be able to do so.

Authority: 43 CFR 2711.1-2(a) and (c).

Karen Montgomery,
Acting Deputy State Director.

[FR Doc. 2010-15203 Filed 6-22-10; 8:45 am]

BILLING CODE 4310-40-P